DEPARTMENT OF HEALTH AND HUMAN SERVICES

National Institutes of Health

National Institute of Biomedical Imaging and Bioengineering; Notice of Closed Meetings

Pursuant to section 10(d) of the Federal Advisory Committee Act, as amended (5 U.S.C. appendix 2), notice is hereby given of meetings of the National Advisory Council for Biomedical Imaging and Bioengineering.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Biomedical Imaging and Bioengineering.

Date: January 27-28, 2005.

Open: January 27, 2005, 3 p.m. to 4:30 p.m.

Agenda: Presentations by the Institute Director and Executive Secretary.

Place:National Institutes of Health, Building 31, 31 Center Drive, Conference Room 6, Bethesda, MD 20892.

Open: January 28, 2005, 8 a.m. to 12:15 p.m.

Agenda: Reports from institute officials.

Place: National Institutes of Health, Building 31, 31 Center Drive, Conference Room 6, Bethesda, MD 20892.

Closed: January 28, 2005, 1:15 p.m. to 5 p.m.

Agenda: To review and evaluate grant applications.

Place: National Institutes of Health, Building 31, 31 Center Drive, Conference Room 6, Bethesda, MD 20892.

Contact Person: Arlene Y Chiu, PhD, Associate Director, Office of Research Administration, Office of Science Administration, National Institute of Biomedical Imaging and Bioengineering, 6707 Democracy Plaza, Suite 200, MSC-5477, Bethesda, MD 20892-5477, (301) 435-9218, chiua@mail.nih.gov.

Name of Committee: National Advisory Council for Biomedical Imaging and Bioengineering Strategic Plan Development Subcommittee.

Date: January 27, 2005.

Open: 1 p.m. to 3 p.m.

Agenda: Discussions of implementation of strategic plan and quantum grants.

Place: National Institutes of Health, Building 31, 31 Center Drive, Conference Room 6, Bethesda, MD 20892.

Contact Person: Arlene Y Chiu, PhD, Associate Director, Office of Research Administration, Office of Science Administration, National Institute of Biomedical Imaging and Bioengineering, 6707 Democracy Plaza, Suite 200, MSC-5477, Bethesda, MD 20892-5477, (301) 435-9218, chiua@mail.nih.gov.

Name of Committee: National Advisory Council for Biomedical Imaging and Bioengineering Training and Career Development Subcommittee.

Date: January 27, 2005.

Open: 4:30 p.m. to 5:45 p.m.

Agenda: Discussion of subcommittee programs.

Place: National Institutes of Health, Building 31, 31 Center Drive, Conference Room 6, Bethesda, MD 20892.

Contact Person: Arlene Y Chiu, PhD, Associate Director, Office of Research Administration Office of Science Administration, National Institute of Biomedical Imaging and Bioengineering, 6707 Democracy Plaza, Suite 200, MSC-5477, Bethesda, MD 20892-5477, (301) 435-9218, chiua@mail.nih.gov.

Any interested person may file written comments with the committee by forwarding the statement to the Contact Person listed on this notice. The statement should include the name, address, telephone number and when applicable, the business or professional affiliation of the interested person.

In the interest of security, NIH has instituted stringent procedures for entrance into the building by non-government employees. Persons without a government I.D. will need to show a photo I.D. and sign-in at the security desk upon entering the building.

Information is also available on the Institute's/Center's home page: http://www.nibib1.nih.gov/about/NACBIB/NACBIB.htm, where an agenda and any additional information for the meeting will be posted when available.

Dated: December 9, 2004.
Laverne Y. Stringfield
Director, Office of Federal Advisory Committee Policy.

[FR Doc. 04-27500 Filed 12-15-04; 8:45 am]

BILLING CODE 4140-01-M